DEPARTMENT OF HOMELAND SECURITY

Coast Guard

33 CFR Part 117

[CGD 11-04-005]

Drawbridge Operation Regulations; Turner Cut, Stockton, CA

AGENCY: Coast Guard, DHS.

ACTION: Notice of temporary deviation from regulations.

SUMMARY: The Commander, Eleventh Coast Guard District, has issued a temporary deviation from the regulation governing the operation of the Zuckerman Brothers Drawbridge, mile 2.3, Turner Cut, near Stockton, CA. This deviation allows the drawbridge to remain in the closed-to-navigation position during essential operating machinery repair, to prevent unexpected failure of the drawspan.

DATES: This deviation is effective from 7 a.m. on June 23, 2004 to 5 p.m. on June 24, 2004.

ADDRESSES: Documents referred to in this temporary rule are available for inspection and copying at Commander (oan), Eleventh Coast Guard District, Building 50-3, Coast Guard Island, Alameda, CA 94501-5100, between 8 a.m. and 4 p.m., Monday through Friday, except Federal holidays.

FOR FURTHER INFORMATION CONTACT: David H. Sulouff, Chief, Bridge Section, Eleventh Coast Guard District, telephone (510) 437-3516.

SUPPLEMENTARY INFORMATION: The Delta Farms Reclamation District 2030 has requested to secure the Zuckerman Brothers Drawbridge, mile 2.3, Turner Cut, near Stockton, CA, in the closed-to-navigation position from 7 a.m. on June 23, 2004 to 5 p.m. on June 24, 2004, during essential operating machinery repair, to prevent unexpected failure of the drawspan. The drawbridge provides unlimited vertical clearance in the full open-to-navigation position, and 16 ft. vertical clearance above Mean High Water when closed. The drawbridge opens on signal from approaching vessels, as required by 33 CFR 117.5.

The proposed work was coordinated with waterway users. It was determined that potential navigational impacts will be reduced if the repairs are performed during midweek, resulting in Coast Guard approval of the proposed work from 7 a.m. on June 23, 2004 to 5 p.m. on June 24, 2004.

During these times, the drawspan may be secured in the closed-to-navigation position and need not open for vessels. The drawspan shall resume normal operation at the conclusion of the essential repair work. Mariners should contact the Zuckerman Brothers Drawbridge, via VHF-FM Ch. 9, or by telephone at (209) 464-1253, in advance to determine conditions at the bridge.

The drawspan will be unable to open during the repair. Vessels that can safely pass through the closed drawbridge may continue to do so at any time. An alternative route is available for vessels that can safely navigate around McDonald Island, via Columbia Cut. In accordance with 33 CFR 117.35(c), this work will be performed with all due speed to return the drawbridge to normal operation as soon as possible.

This deviation from the operating regulations is approved under the provisions of 33 CFR 117.35.

Dated: June 9, 2004.
Kevin J. Eldridge,
Rear Admiral, U. S. Coast Guard, Commander, Eleventh Coast Guard District.

[FR Doc. 04-14068 Filed 6-21-04; 8:45 am]

BILLING CODE 4910-15-P